DEPARTMENT OF HEALTH AND HUMAN SERVICES

Office of the Secretary

Findings of Research Misconduct; Correction

AGENCY: Office of the Secretary, HHS.

ACTION: Correction of notice.

SUMMARY: This document corrects errors that appeared in the notice published in the November 7, 2019, Federal Register entitled “Findings of Research Misconduct.”

DATES:

Effective Date: February 4, 2021.

Applicability Date: The correction notice is applicable for the Findings of Research Misconduct notice published on November 7, 2019.

FOR FURTHER INFORMATION CONTACT: Ms. Karen Gorirossi or Dr. Alexander Runko at 240-453-8800.

SUPPLEMENTARY INFORMATION:

I. Background

In FR Doc. 2019-24291 of November 7, 2019 (84 FR 60097-60098), there were errors involving incorrect citations for published papers affecting six paragraphs on page 60098. The errors are identified and corrected in the Correction of Errors section below.

II. Correction of Errors

In FR Doc. 2019-24291 of November 7, 2019 (84 FR 60097-60098), make the following corrections:

1. On page 60098, first column, in FR Doc. 2019-24291, fifth paragraph, lines 1-2, change “Am. J. Physiol. Lung Cell. Mol. Biol.” to “Am. J. Resp. Cell. Mol. Biol.” and in lines 3-5, remove “(hereafter referred to as “Am. J. Physiol. Lung Cell. Mol. Biol. 2011b paper).”

2. On page 60098, first column, in FR Doc. 2019-24291, twelfth paragraph, lines 1-2, change “Am. J. Physiol. Lung Cell. Mol. Biol.” to “Am. J. Resp. Cell. Mol. Biol.”

3. On page 60098, first column, in FR Doc. 2019-24291, sixteenth paragraph, lines 1-2, change “J. Immunol. 2007;2179:4367-75” to “J. Immunol. 2007;179:4367-75.”

4. On page 60098, second column, in FR Doc. 2019-24291, second paragraph, lines 2-3, change “Am. J. Physiol. Lung Cell. Mol. Biol.” to “Am. J. Resp. Cell. Mol. Biol.”

5. On page 60098, second column, in FR Doc. 2019-24291, sixth paragraph, lines 1 and 3, change “J. App. Physiol.” to “J. Appl. Physiol.”

6. On page 60098, second column, in FR Doc. 2019-24291, twenty-third paragraph, lines 1-2, change “Am. J. Physiol. Lung Cell. Mol. Biol. 2011b paper” to “Am. J. Physiol. Lung Cell. Mol. Physiol. 2011;301(3):L327-L333.”

Dated: January 29, 2021.
Wanda K. Jones,
Acting Director, Office of Research Integrity.

[FR Doc. 2021-02272 Filed 2-3-21; 8:45 am]

BILLING CODE 4150-31-P